DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 31, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Mycoplasma Bovis in Bison 2022 Case Control Study.

OMB Control Number: 0579-0482.

Summary of Collection: Under the Animal Health Protection Act (7 U.S.C. 8301 et seq.), the Secretary of the U.S. Department of Agriculture (USDA) is authorized to protect the health of the livestock, poultry, and aquaculture populations in the United States by preventing the introduction and interstate spread of serious diseases and pests, and for eradicating such diseases and pests from the United States, when feasible. Within the USDA, the Animal and Plant Health Inspection Service (APHIS Veterinary Services (VS)) is tasked with preventing foreign animal disease outbreaks in the United States, and monitoring, controlling, and eliminating a disease outbreak should one occur. In 2021, multiple premises and bison herds experienced significant losses attributed to the appearance of the Mycoplasma bovis pathogen in the herds. Despite the unique and significant burden of this pathogen on bison, little information exists on the sources of infection to naïve herds. Diagnostic testing is not currently able to identify animals infected but not shedding the bacterium and these animals can serve as a source of infection during subsequent years. To limit additional herds becoming infected in the 2022 season, APHIS conducted an emergency study on the potential sources of new infections in naïve herds. This request for renewal of the emergency information collection request for the study serves to maintain approval to apply the study to herds that may get infected but were not included in the original study.

Need and Use of the Information: The information collected will be used to identify risk factors for bison contracting the M. Bovis pathogen, and develop prevention and control recommendations for treating it.

Description of Respondents: Bison producers (herd owners or managers).

Number of Respondents: 220.

Frequency of Responses: Reporting: On occasion.

Total Burden Hours: 55.

Ruth Brown,
Departmental Information Collection Clearance Officer.

[FR Doc. 2022-21273 Filed 9-29-22; 8:45 am]

BILLING CODE 3410-34-P